FEDERAL MARITIME COMMISSION

[Docket No. 01-08]

The Impact of the Government Paperwork Elimination Act and the Electronic Signatures in Global and National Commerce Act

AGENCY: Federal Maritime Commission.

ACTION: Notice of inquiry.

SUMMARY: The Federal Maritime Commission (“FMC” or “Commission”) is issuing this Inquiry to solicit information and comments concerning the impact of the Government Paperwork Elimination Act and the Electronic Signatures in Global and National Commerce Act on all sectors of the U.S. ocean shipping industry. These comments will assist the Commission as it analyzes the use and acceptance of documents in electronic form, as well as other means of engaging in electronic transactions. The Commission plans to provide individuals or entities with the option to submit information or transact business with the Commission electronically, where practicable, and to maintain records electronically when practicable.

DATES: Submit an original and 15 copies of comments (paper), or e-mail comments as an attachment in WordPerfect 8, Microsoft Word 97, or earlier versions of these applications, August 17, 2001.

ADDRESS COMMENTS TO: Bryant L. VanBrakle, Secretary, Federal Maritime Commission, 800 North Capitol St., NW., Room 1046, Washington, DC 20573-0001, (202) 523-5725, E-mail: secretary@fmc.gov.

FOR FURTHER INFORMATION CONTACT: Florence A. Carr, Deputy Executive Director, Office of the Executive Director, Federal Maritime Commission, 800 North Capitol Street, NW., Washington, DC 20573-0001, (202) 523-5800, E-mail: florence@fmc.gov.

SUPPLEMENTARY INFORMATION: The Commission is seeking information and comments from interested parties regarding the impact of the Government Paperwork Elimination Act (“GPEA”), Public Law 105-277, and the Electronic Signatures in Global and National Commerce Act (“E-SIGN”), Public Law. 106-229, on all sectors of the U.S. ocean shipping industry.

GPEA provides that electronic records and their related electronic signatures are not to be denied legal effect, validity, or enforceability merely because they are in electronic form. GPEA requires agencies, by October 21, 2003, to provide for (1) the option of electronic maintenance, submission, or disclosure of information, when practicable as a substitute for paper; and (2) the use and acceptance of electronic signatures, when practicable. GPEA defines “electronic signature” as a method of signing an electronic message that (a) identifies and authenticates a particular person as the source of the electronic message; and (b) indicates such person's approval of the information contained in the electronic message. GPEA encourages Federal Government use of a range of electronic signature alternatives.

E-SIGN eliminates legal barriers to the use of electronic technology to form and sign contracts, collect and store documents, and send and receive notices and disclosures. E-SIGN provides that a contract, signature, or record may not be denied legal effect, validity or enforceability solely because it is in electronic form, and that a contract relating to such a transaction may not be denied legal effect, validity or enforceability solely because an electronic signature or electronic record was used in its formation, provided that, among other things, the parties agree to use or accept electronic records and or electronic signatures. Provisions in Federal and state statutes and agency regulations requiring the use of paper records and ink signatures in commercial, consumer, and business transactions have been superseded by E-SIGN as of October 1, 2000.

E-SIGN also preserves consumer protections for electronic commerce such as exist for paper-based transactions. The Act applies broadly to federal and state statutes and regulations governing private sector (including business-to-business and business-to-consumer) activities. The Act generally covers legal requirements that information be disclosed in private transactions. It also requires that agencies generally allow private parties to retain records electronically. The Government may establish appropriate performance standards for accuracy, integrity, and accessibility of records retained electronically, to ensure that compliance with laws can be determined, taxpayers can be protected, and the agency mission's can be accomplished.

In order for the FMC to develop and implement procedures for the use and acceptance of documents in electronic form where practicable, as well as other means of engaging in electronic transactions, the agency must assess such factors as costs, benefits, risks, available technologies, confidentiality and security measures.

Therefore, the Commission is seeking public comment to assist in its assessment. The Attachment contains several questions which we ask respondents to answer. If you or your organization are required to complete and submit any of the following forms/information collections to the FMC pursuant to 46 CFR Part 500 et seq., the Commission would be especially interested in your responses to the questions in the Attachment.

• Form FMC-1 Organization Information

• Form FMC-18 Application for a License as an Ocean Transportation Intermediary

• Form FMC-48 Ocean Transportation Intermediary Bond

• Form FMC-67 Ocean Transportation Intermediary Insurance Form

• Form FMC-68 Ocean Transportation Intermediary Guaranty Form

• Form FMC-69 Ocean Transportation Intermediary Group Bond Form

• Form FMC-83 Service Contracts User Registration Form

• Form FMC-131 Application for Certificate of Financial Responsibility

• Form FMC-132A Passenger Vessel Surety Bond

• Form FMC-132B Passenger Vessel Surety Bond

• Form FMC-133 FMC Guaranty in Respect of Liability for Nonperformance Section 3 of the Act Pub. L. 89-777

• Form FMC-133B FMC Guaranty in Respect of Liability for Death or Injury Section 2 of the Act Pub. L. 89-777

• Form FMC-150 Information for Class A/B Agreements and Instructions

• Form FMC-152A Monitoring Reports for Class A Agreements

• Form FMC-152B Monitoring Reports for Class B Agreements

• Form FMC-152C Monitoring Reports for Class C Agreements

• Form FMC-151 Information for Class C Agreements and Instructions

The Commission encourages prospective commenters to address all relevant questions; however, there is no requirement that all questions be answered. Commenters are free to answer only those questions which they so choose.

In addition to availability in hard copy or by e-mail copy from the Commission's Secretary, the Notice of Inquiry (“NOI”) questions will be made available on the Commission's website at http://www.fmc.gov in a downloadable text file. Comments may be submitted in hard copy or as an attachment to an e-mail. These e-mail attachments must be submitted in WordPerfect 8, Microsoft Word 97, or earlier versions of these applications. For further information contact the Secretary at Secretary@fmc.gov or (202) 523-5725.

Now therefore, it is Ordered that Notice of this Inquiry be published in the Federal Register.

By the Commission.
Bryant L. VanBrakle,
Secretary.

Attachment—NOI Questions

Commenters should provide their organization's name and address, their category of organization (e.g., Vessel Operating Common Carrier, Shipper, Shippers' Association, Ocean Transportation Intermediaries), and a telephone number for the commenting official.

1. Please identify (by FMC form number) the forms/information collections which you or your organization are required to submit to the FMC. For each form identified please rate the sensitivity of the data and the transaction as either high, medium or low, using the following definitions for each.

High sensitivity—the data/transaction is of critical concern, may contain proprietary information, or consists of data files that require safeguarding.

Medium sensitivity—the data/transaction is an important concern but not necessarily paramount in the organization's priorities. This includes data whose release or distribution outside of the organization or the Commission must be controlled and protected against acts as malicious destruction, unauthorized alteration or disclosure.

Low sensitivity—some minimum level of security is required, but not the same level as the previous two categories, e.g., data files which have value to an originator only in their raw form, or data requiring safeguarding by the Privacy Act but which contain information that is nearly all in the public domain.

2. Are you or is your organization now using or planning to use any form of electronic signature technology as part of your business activities? If yes, briefly describe the context in which it is used or planned to be used and indicate how frequently it may be used.

3. Are you or is anyone in your organization familiar with Public Key Infrastructure (“PKI”) and Automated Certificates of Electronic Signature? If yes, indicate whether you are using or planning to use PKI electronic signature certificates.

4. What benefits, if any, do you or your organization anticipate if the Commission establishes an electronic option for the forms/information collections you identified in question 1?

5. What additional risks to the data or the transaction, if any, do you or your organization anticipate should the Commission establish an electronic reporting option for the forms/ information collections you identified in question 1?

6. With respect to the forms/information collections you identified in response to question 1, what obstacles or barriers do you or your organization expect may impede the Commission's successful establishment of electronic options?

7. With respect to the forms/information collections you or your organization are required to provide to the FMC, which of the issues listed below pose the most concern for you should that same form/information collection be provided on an electronic platform (meaning you can access the form, complete it, sign it, and transmit the completed/signed document back to the FMC electronically)? Briefly explain.

a. Confidentiality—Ensuring that information can be read only by authorized entities, including possible encryption of information for privacy/confidentiality or security purposes.

b. Integrity—Ensuring that data is unchanged from its source and has not been accidentally or maliciously altered. This includes but is not limited to:

1. Authentication—Ensuring that transmissions and messages, and their originators, are authentic, and that a recipient is eligible to receive specific categories of information. This includes possibly having a third party verify that the content of a message has not been changed in transit, and that it is what it purports to be.

2. Nonrepudiation—Ensuring strong and substantial evidence is available to the sender of data that the data has been delivered (with the cooperation of the recipient), and to the recipient evidence of the senders's identity, sufficient to prevent either from successfully denying having sent or received the data. This includes the ability of a third party to verify the integrity and origin of the data. Technical nonrepudiation binds a user to a transaction in a fashion that provides important forensic evidence in the event of a later problem.

c. Availability—Ensuring that the information technology resources (system or data) are available on a timely basis to meet mission/business requirements or to avoid substantial losses. Availability also includes ensuring that resources are used only for intended purposes.

8. Any other comments?

[FR Doc. 01-17875 Filed 7-17-01; 8:45 am]

BILLING CODE 6730-01-P